DEPARTMENT OF TRANSPORTATION

Federal Aviation Administration

14 CFR Part 39

[Docket No. FAA-2024-2717; Project Identifier MCAI-2024-00147-T]

RIN 2120-AA64

Airworthiness Directives; Bombardier, Inc., Airplanes

AGENCY: Federal Aviation Administration (FAA), DOT.

ACTION: Notice of proposed rulemaking (NPRM).

SUMMARY: The FAA proposes to supersede Airworthiness Directive (AD) 2020-19-13, which applies to certain Bombardier, Inc., Model CL-600-1A11 (600), CL-600-2A12 (601), and CL-600-2B16 (601-3A, 601-3R, and 604 Variants) airplanes. AD 2020-19-13 requires a check to identify the manufacturer and part number of the portable oxygen bottle installation, and if necessary, modification of the portable oxygen bottle installation. Since the FAA issued AD 2020-19-13, it was determined that four additional airplanes are subject to the unsafe condition. This proposed AD would continue to require the actions specified in AD 2020-19-13 and would expand the applicability. The FAA is proposing this AD to address the unsafe condition on these products.

DATES: The FAA must receive comments on this proposed AD by February 14, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2717; or in person at Docket Operations between 9 a.m. and 5 p.m., Monday through Friday, except Federal holidays. The AD docket contains this NPRM, the mandatory continuing airworthiness information (MCAI), any comments received, and other information. The street address for Docket Operations is listed above.

Material Incorporated by Reference:

• For Bombardier material identified in this proposed AD, contact Bombardier Business Aircraft Customer Response Center, 400 Côte Vertu Road West, Dorval, Québec H4S 1Y9, Canada; telephone 514 855 2999; email ac.yul@aero.bombardier.com; website bombardier.com.

• You may view this material at the FAA, Airworthiness Products Section, Operational Safety Branch, 2200 South 216th St., Des Moines, WA. For information on the availability of this material at the FAA, call 206-231-3195.

FOR FURTHER INFORMATION CONTACT: Brenda Buitrago, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under the ADDRESSES section. Include “Docket No. FAA-2024-2717; Project Identifier MCAI-2024-00147-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Brenda Buitrago, Aviation Safety Engineer, FAA, 1600 Stewart Avenue, Suite 410, Westbury, NY 11590; telephone 516-228-7300; email 9-avs-nyaco-cos@faa.gov. Any commentary that the FAA receives which is not specifically designated as CBI will be placed in the public docket for this rulemaking.

Background

The FAA issued AD 2020-19-13, Amendment 39-21256 (85 FR 60887, dated September 29, 2020) (AD 2020-19-13), for certain Bombardier, Inc., Model CL-600-1A11 (600), CL-600-2A12 (601), and CL-600-2B16 (601-3A, 601-3R, and 604 Variants) airplanes. AD 2020-19-13 was prompted by MCAI originated by Transport Canada, which is the aviation authority for Canada. Transport Canada issued AD CF-2019-26, dated July 9, 2019 (Transport Canada AD CF-2019-26), to correct an unsafe condition.

AD 2020-19-13 requires a check to identify the manufacturer and part number of the portable oxygen bottle installation, and, if necessary, modification of the portable oxygen bottle installation. The FAA issued AD 2020-19-13 to address the portable oxygen bottle installation's upper bracket latch assembly catching on the pressure gauge bezel of the portable oxygen bottle, which could prevent fast and easy access to the portable oxygen bottle in an emergency situation.

Actions Since AD 2020-19-13 Was Issued

Since the FAA issued AD 2020-19-13, Transport Canada superseded AD CF-2019-26, dated July 19, 2019, and issued Transport Canada AD CF-2024-09, dated March 14, 2024 (Transport Canada AD CF-2024-09) (referred to after this as the MCAI) to correct an unsafe condition on certain Bombardier, Inc., Model CL-600-1A11 (600), CL-600-2A12 (601), and CL-600-2B16 (601-3A, 601-3R, and 604 Variants) airplanes. The MCAI states four Model CL-600-2B16 airplanes have been added to the applicability.

This proposed AD would add airplanes to the applicability. The FAA is proposing this AD to address the portable oxygen bottle installation's upper bracket latch assembly catching on the pressure gauge tube or on the pressure gauge bezel of the portable oxygen bottle, which, if not detected and corrected, could prevent fast and easy access to the portable oxygen bottle in an emergency situation.

You may examine the MCAI in the AD docket at regulations.gov under Docket No. FAA-2024-2717.

Related Material Under 1 CFR Part 51

The FAA reviewed the following material:

• Bombardier Service Bulletin 600-0772, Revision 01, dated June 28, 2023;

• Bombardier Service Bulletin 601-0646, Revision 01, dated June 28, 2023;

• Bombardier Service Bulletin 604-35-006, Revision 01, dated June 28, 2023;

• Bombardier Service Bulletin 605-35-005, Revision 01, dated June 28, 2023; and

• Bombardier Service Bulletin 650-35-001, Revision 01, dated June 28, 2023.

This material specifies procedures for a check to identify the manufacturer and part number of the portable oxygen bottle installation, and, if necessary, modification of the portable oxygen bottle installation. These documents are distinct since they apply to different airplane models/configurations.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would retain all requirements of AD 2020-19-13. This proposed AD would add airplanes to the applicability. This proposed AD would also require accomplishing the actions specified in the material described previously.

Clarification of Compliance Time

Paragraph (h) of AD 2020-19-13 does not include a compliance time for the modification. However, as specified in paragraph (g) of AD 2020-19-13 and this proposed AD, operators have 60 months to determine if there is any affected part, and paragraph (h) of the proposed AD provides the on-condition action (modification) if an affected part is found. Therefore, the replacement in paragraph (h) of this AD, if applicable, must also be done within 60 months.

Costs of Compliance

The FAA estimates that this AD, if adopted as proposed, would affect 192 airplanes of U.S. registry.

Estimated Costs for Required Actions
Labor cost | Parts cost | Cost per product | Cost on U.S. operators
3 work-hours × $85 per hour = $255 | $1,530 | $1,785 | $342,720

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-19-13, Amendment 39-21256 (85 FR 60887, September 29, 2020); and

b. Adding the following new AD:

Bombardier, Inc.: Docket No. FAA-2024-2717; Project Identifier MCAI-2024-00147-T.

(a) Comments Due Date

The FAA must receive comments on this airworthiness directive (AD) by February 14, 2025.

(b) Affected ADs

This AD replaces AD 2020-19-13, Amendment 39-21256 (85 FR 60887, September 29, 2020) (AD 2020-19-13).

(c) Applicability

This AD applies to Bombardier, Inc., airplanes, identified in paragraphs (c)(1) through (3), certificated in any category, equipped with Scott (Avox/Zodiac) 5500 or 5600 series 11 cubic foot portable oxygen bottle(s) with upper bracket part number (P/N) 36758-02, P/N 36758-12 or P/N H3-2091-1 installed at the neck of the bottle(s).

(1) Model CL-600-1A11 (600) airplanes, serial numbers 1004 through 1085 inclusive.

(2) Model CL-600-2A12 (601) airplanes, serial numbers 3001 through 3066 inclusive.

(3) Model CL-600-2B16 (601-3A, 601-3R, and 604 Variants) airplanes, serial numbers 5001 through 5194 inclusive, 5301 through 5665 inclusive, 5701 through 5988 inclusive, 6050 through 6119 inclusive, 6158, 6161, 6176, and 6181.

(d) Subject

Air Transport Association (ATA) of America Code 35, Oxygen.

(e) Unsafe Condition

This AD was prompted by a report indicating that the portable oxygen bottle installation's upper bracket latch assembly can catch on the pressure gauge tube or on the pressure gauge bezel of the portable oxygen bottle. This AD was also prompted by the determination that four additional Model CL-600-2B16 airplanes may be subject to the unsafe condition. The FAA is issuing this AD to address the unsafe condition, which, if not addressed, could prevent fast and easy access to the portable oxygen bottle in an emergency situation.

(f) Compliance

Comply with this AD within the compliance times specified, unless already done.

(g) Retained Check for Airplanes, With Revised Figure Reference and Revised Service Information

This paragraph restates the requirements of paragraph (g) of AD 2020-19-13, with revised figure reference and revised service information. For airplanes with a serial number (S/N) listed in Section 1.A. of the applicable Bombardier service information specified in figure 1 to paragraph (g) of this AD, except airplane S/Ns 6158, 6161, 6176, and 6181: Within 60 months after November 3, 2020 (the effective date of AD 2020-19-13), check each portable oxygen bottle installation to determine the manufacturer and P/N, in accordance with paragraph 2.B. of the Accomplishment Instructions of the applicable Bombardier service information specified in figure 1 to paragraph (g) of this AD.

Figure 1 to Paragraph (g)—Service Information References
Airplane model | Bombardier service information
Model CL-600-1A11 | Bombardier Service Bulletin 600-0772, Revision 01, dated June 28, 2023.
Model CL-600-2A12 | Bombardier Service Bulletin 601-0646, Revision 01, dated June 28, 2023.
Model CL-600-2B16 | Bombardier Service Bulletin 601-0646, Revision 01, dated June 28, 2023.
Model CL-600-2B16 | Bombardier Service Bulletin 604-35-006, Revision 01, dated June 28, 2023.
Model CL-600-2B16 | Bombardier Service Bulletin 605-35-005, Revision 01, dated June 28, 2023.
Model CL-600-2B16 | Bombardier Service Bulletin 650-35-001, Revision 01, dated June 28, 2023.

(h) Retained Bracket Modification, With Specified Compliance Time

This paragraph restates the requirements of paragraph (h) of AD 2020-19-13, with a specified compliance time. If, during the inspection specified in paragraph (g) of this AD, any portable oxygen bottle is found to be manufactured by Scott (Avox/Zodiac) and is a 5500 or 5600 series 11 cubic foot bottle, with upper bracket P/N 36758-02, 36758-12, or H3-2091-1 installed at the neck of the bottle: Within 60 months after November 3, 2020 (the effective date of AD 2020-19-13), modify the portable oxygen bottle brackets in accordance with paragraph 2.C. of the Accomplishment Instructions of the applicable Bombardier service information specified in figure 1 to paragraph (g) of this AD.

(i) Retained Check for Airplanes Not Listed in the Service Information, With Revised Figure Reference and Revised Service Information

This paragraph restates the requirements of paragraph (i) of AD 2020-19-13, with a revised figure reference and revised service information. For airplanes with a serial number that is not listed in section 1.A. of the applicable Bombardier service information specified in figure 1 to paragraph (g) of this AD, within 60 months after November 3, 2020 (the effective date of AD 2020-19-13), check each portable oxygen bottle installation to determine the manufacturer and part number and accomplish corrective actions in accordance with the procedures specified in paragraph (l)(1) of this AD.

(j) New Check Requirement for Added Airplanes

For airplane S/Ns 6158, 6161, 6176, and 6181: Within 60 months after the effective date of this AD, check each portable oxygen bottle installation to determine the manufacturer and part number and accomplish corrective actions in accordance with the procedures specified in paragraph (l)(1) of this AD.

(k) Credit for Previous Actions

This paragraph provides credit for actions required by paragraphs (g) and (h) of this AD, if those actions were performed before the effective date of this AD using the applicable material specified in paragraphs (k)(1) through (5) of this AD. This material is not incorporated by reference in this AD.

(1) Bombardier Service Bulletin 600-0772, dated June 29, 2018;

(2) Bombardier Service Bulletin 601-0646, dated June 29, 2018;

(3) Bombardier Service Bulletin 604-35-006, dated June 29, 2018;

(4) Bombardier Service Bulletin 605-35-005, dated June 29, 2018; and

(5) Bombardier Service Bulletin 650-35-001, dated June 29, 2018.

(l) Additional AD Provisions

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (m) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier's Transport Canada Design Approval Organization (DAO). If approved by the DAO, the approval must include the DAO-authorized signature.

(m) Additional Information

For more information about this AD, contact Brenda Buitrago, Aviation Safety Engineer, FAA, 1600 Stewart Avenue, Suite 410, Westbury, NY 11590; telephone 516-228-7300; email 9-avs-nyaco-cos@faa.gov.

(n) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on [DATE 35 DAYS AFTER PUBLICATION OF THE FINAL RULE].

(i) Bombardier Service Bulletin 600-0772, Revision 01, dated June 28, 2023.

(ii) Bombardier Service Bulletin 601-0646, Revision 01, dated June 28, 2023.

(iii) Bombardier Service Bulletin 604-35-006, Revision 01, dated June 28, 2023.

(iv) Bombardier Service Bulletin 605-35-005, Revision 01, dated June 28, 2023.

(v) Bombardier Service Bulletin 650-35-001, Revision 01, dated June 28, 2023.

(4) For Bombardier material identified in this AD, contact Bombardier Business Aircraft Customer Response Center, 400 Côte-Vertu Road West, Dorval, Québec H4S 1Y9, Canada; telephone 514-855-2999; email ac.yul@aero.bombardier.com; website bombardier.com.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locationsoremailfr.inspection@nara.gov.

Issued on December 23, 2024.
Steven W. Thompson,
Acting Deputy Director, Compliance & Airworthiness Division, Aircraft Certification Service.

[FR Doc. 2024-31379 Filed 12-30-24; 8:45 am]

BILLING CODE 4910-13-P